DEPARTMENT OF DEFENSE

Office of the Secretary

32 CFR Part 165

[Docket ID: DOD-2018-OS-0088]

RIN 0790-AK24

Recoupment of Nonrecurring Costs (NCs) on Sales of U.S. Items

AGENCY: Office of the Under Secretary of Defense (Comptroller), DoD.

ACTION: Final rule.

SUMMARY: This final rule removes the Department of Defense (DoD) regulation that paraphrases existing authorities under the Arms Export Control Act and describes internal procedures for calculating and assessing nonrecurring cost (NC) recoupments, for granting foreign government NC waiver requests, for the types of foreign military sales agreements covered, and for the offices authorized to waive NC recoupment. The corresponding internal procedures will continue to be made publicly available online.

DATES: This rule is effective on August 19, 2019.

FOR FURTHER INFORMATION CONTACT: Kellie Allison at 703-614-0410.

SUPPLEMENTARY INFORMATION: This removal supports a recommendation from the DoD Regulatory Reform Task Force. This rule was codified on May 24, 2013 (78 FR 31400), and it was never updated. It has been determined that publication of this CFR part removal for public comment is unnecessary since it is based on removing DoD internal procedures and information which paraphrases law. DoD internal guidance on the recoupment of NCs under the Arms Export Control Act, Public Law 90-629, as amended, will continue to be published in DoD's Financial Management Regulation, Volume 15, Chapter 7 (updated in November 2018), available at https://comptroller.defense.gov/Portals/45/documents/fmr/current/15/15_07.pdf.

This rule is not significant under Executive Order (E.O.) 12866, “Regulatory Planning and Review.” Therefore the requirements of Executive Order 13771, “Reducing Regulation and Controlling Regulatory Costs,” do not apply.

List of Subjects in 32 CFR Part 165

Calculating, Assessing, Waiver requests, Agreements, Authorities and pricing guidelines.

PART 165—[REMOVED]

Accordingly, by the authority of 5 U.S.C. 301, 32 CFR part 165 is removed.

Dated: August 14, 2019.
Aaron T. Siegel,
Alternate OSD Federal Register Liaison Officer, Department of Defense.

[FR Doc. 2019-17757 Filed 8-16-19; 8:45 am]

BILLING CODE 5001-06-P